DEPARTMENT OF TRANSPORTATION

Office of the Secretary

Aviation Proceedings, Agreements Filed During Week Ending September 14, 2001

The following Agreements were filed with the Department of Transportation under provisions of 49 U.S.C. Sections 412 and 414. Answers may be filed within 21 days after the filing of the applications.

Docket Number: OST-2001-10601

Date Filed: September 10, 2001

Parties: Members of the International Air Transport Association

Subject:

PTC3 0512 dated 7 September 2001

Mail Vote 144—Resolution 010o

TC3 Special Passenger Amending Resolution between Korea (Rep. of) and Japan,

Intended Effective Date: 1 October 2001

Docket Number: OST-2001-10602

Date Filed: September 10, 2001

Parties: Members of the International Air Transport Association

Subject:

PTC1 0197 dated 21 August 2001

TC1 Longhaul between USA and Chile Resolutions r1-r15

MINUTES—PTC1 0199 dated 31 August 2001

TABLES—PTC1 Fares 0066 dated 24 August 200

Intended Effective Date: 1 January 2002

Docket Number: OST-2001-10618

Date Filed: September 11, 2001

Parties: Members of the International Air Transport Association

Subject:

PTC1 0194 dated 21 August 2001

TC1 Caribbean Resolutions r1-r12

PTC1 0196 dated 21 August 2001

TC1 Within South America Resolutions r13-r25

MINUTES—PTC1 0198 dated 31 August 2001

TABLES—PTC1 Fares 0063 dated 21 August 2001

TC1 Caribbean Specified Fares Tables,

PTC1 Fares 0064 dated 21 August 2001

TC1 Within South America Specified Fares Tables

Intended effective date: 1 January 2002

Docket Number: OST-2001-10631

Date Filed: September 13, 2001

Parties: Members of the International Air Transport Association

Subject:

Mail Vote 139

PTC12 CAN-EUR 0075 dated 7 September 2001

TC12 North Atlantic Canada-Europe Passenger Agreement r1-r26

MINUTES—PTC12 CAN-EUR 0073 dated 24 July 2001

TABLES—PTC12 CAN-EUR Fares 0025 dated 7 September 2001

Intended effective date: 1 November 2001

Dorothy Y. Beard,
Federal Register Liaison.

[FR Doc. 01-24477 Filed 9-28-01; 8:45 am]

BILLING CODE 4910-62-P